DEPARTMENT OF TRANSPORTATION

Federal Highway Administration

Notice of Intent To Prepare an Environmental Impact Statement; US 41 Interstate Conversion Plan, Milwaukee, Waukesha, Washington, Dodge, Fond Du Lac, Winnebago, Outagamie and Brown Counties, WI

AGENCY: Federal Highway Administration (FHWA), Department of Transportation (DOT).

ACTION: Notice of Intent to Prepare an Environmental Impact Statement.

SUMMARY: The FHWA is issuing this notice to advise the public that a Tier I Environmental Impact Statement (EIS) will be prepared for the proposed interstate conversion of U.S. Highway 41 in Milwaukee, Waukesha, Washington, Dodge, Fond du Lac, Winnebago, Outagamie, and Brown Counties, Wisconsin by WisDOT in conformance with 40 CFR part 1500 and the FHWA regulations.

The Project: The FHWA, in cooperation with the WisDOT, will prepare a Tier 1 Environmental Impact Statement (EIS) for a proposal to convert U.S. Highway 41 (US 41) in Milwaukee, Waukesha, Washington, Dodge, Fond du Lac, Winnebago, Outagamie, and Brown Counties, Wisconsin, approximately 142 miles in length, from a principal arterial on the National Highway System to an Interstate Highway (IH). Under Sections 1304(b) and (c) of the Safe, Accountable, Flexible, Efficient, Transportation Equity Act—A Legacy for Users (SAFETEA-LU) the 142-mile U.S. Highway 41 corridor between Interstate Route 94 via Interstate Route 894 and Highway 45 near Milwaukee and Interstate Route 43 near Green Bay was designated as a High Priority Corridor on the National Highway System and further, as a future part of the Interstate System. U.S. Highway 41 may be added to the Interstate System at such time as the Secretary determines that the segment meets the Interstate design standards in 23 U.S.C. 109(b).

The proposed project is intended to address the requirements necessary to obtain FHWA concurrence to convert U.S. Highway 41 from a principal arterial to an Interstate Highway and officially sign the corridor as an Interstate facility. Improvements to upgrade the present US 41 corridor to interstate highway standards will be described in the Tier 1 EIS. The proposed improvements are intended to be environmentally sound.

The proposed Tier 1 EIS project is intended to consider cumulative and indirect environmental impacts of the proposed IH system designation, including alternatives development and analysis. The Tier 1 environmental document will also inventory and document existing geometric, safety, operational and planning features, review existing geometric and safety standards and operational policy and standards, and determine the existing corridor's deficiencies as an Interstate facility. The Tier 1 EIS will be completed to a Record of Decision indicating a broad strategy for upgrading the existing corridor to IH standards.

A scoping process will be initiated that involves all appropriate federal and state agencies. This will continue throughout the study as an ongoing process. A public information effort will be initiated in fall 2011 to include those agencies, local agencies, and private organizations and citizens who have previously expressed, or are known to have, interest in this proposal. This effort will also inform the public living in the study area. Public information meetings will be held across the study area to engage the regional community in the decision-making process and obtain public comment. In addition, public hearings will be held to present the findings of the Tier 1 EIS. Public notice will be given concerning the time and place of the informational meetings and public hearings. The Tier 1 EIS will be available for public and agency review and comment prior to the public hearings.

To ensure that the full range of issues related to this proposed action are addressed and all significant issues identified, comments and suggestions are invited from all interested parties. Comments or questions concerning this proposed action and the Tier 1 EIS should be directed to FHWA or the Wisconsin Department of Transportation at the addresses provided under the heading FOR FURTHER INFORMATION CONTACT.

(Catalog of Federal Domestic Assistance Program Number 20.205, Highway Planning and Construction. The regulations implementing Executive Order 12372 regarding intergovernmental consultation on Federal programs and activities apply to this program.)

FOR FURTHER INFORMATION CONTACT: Tracey Blankenship, Major Projects Program Manager, Federal Highway Administration, 525 Junction Road, Suite 8000, Madison, WI 53717; Telephone: (608) 829-7500. You may also contact Tammy Rabe, Wisconsin Department of Transportation, 944 Vanderperren Way, Green Bay, WI 54324; Telephone: 920-492-5661.

Electronic Access

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48.

Issued on: July 20, 2011.
Tracey Blankenship,
Major Projects Program Manager, Federal Highway Administration, Madison, Wisconsin.

[FR Doc. 2011-18818 Filed 7-25-11; 8:45 am]

BILLING CODE 4910-22-P